DEPARTMENT OF LABOR

Employment and Training Administration

[TA-W-41,515]

Stabilit America, Inc., Glasteel Division, Moscow, TN; Notice of Termination of Investigation

Pursuant to Section 221 of the Trade Act of 1974, an investigation was initiated on May 13, 2002 in response to a worker petition, which was filed on behalf of workers at Stabilit America, Inc., Glasteel Division, Moscow, Tennessee.

The petitioning group of workers was not employed at the subject facility. Consequently, the investigation has been terminated.

Signed in Washington, DC this 23rd day of July, 2002.
Curtis K. Kooser,
Certifying Officer, Division of Trade Adjustment Assistance.

[FR Doc. 02-19954 Filed 8-6-02; 8:45 am]

BILLING CODE 4510-30-P